ENVIRONMENTAL PROTECTION AGENCY

[EPA-HQ-OAR-2010-0885; FRL-9973-01-OEI]

Information Collection Request Submitted to OMB for Review and Approval; Comment Request; Implementation of the 2008 Ozone National Ambient Air Quality Standards for Ozone: State Implementation Plan Requirements (Renewal)

AGENCY: Environmental Protection Agency (EPA).

ACTION: Notice.

SUMMARY: The Environmental Protection Agency (EPA) has submitted an information collection request (ICR)—Implementation of the 2008 Ozone National Ambient Air Quality Standards for Ozone: State Implementation Plan Requirements (Renewal), OMB Control Number 2060-0695, EPA ICR No. 2347.03—to the Office of Management and Budget (OMB) for review and approval in accordance with the Paperwork Reduction Act (PRA). This is a proposed extension of the ICR, which is currently approved through January, 31, 2018. Public comments were previously requested via a Federal Register notice published on October 2, 2017 and November 8, 2017. This notice allows an additional 30 days for public comments. A fuller description of the ICR is given below, including its estimated burden and cost to the public. An agency may not conduct or sponsor and a person is not required to respond to a collection of information unless it displays a currently valid OMB control number.

DATES: Additional comments may be submitted on or before February 15, 2018.

ADDRESSES: Submit your comments, referencing Docket ID No. EPA-HQ-OAR-2010-0885, to (1) the EPA online using http://www.regulations.gov (our preferred method), by email to a-and-r-docket@epa.gov, or by mail to: EPA Docket Center, Environmental Protection Agency, Mail Code 28221T, 1200 Pennsylvania Avenue NW, Washington, DC 20460, and (2) OMB via email to oira_submission@omb.eop.gov. Address comments to OMB Desk Officer for EPA. The EPA's policy is that all comments received will be included in the public docket without change including any personal information provided, unless the comment includes profanity, threats, information claimed to be Confidential Business Information or other information whose disclosure is restricted by statute.

FOR FURTHER INFORMATION CONTACT: Mr. Butch Stackhouse, Air Quality Policy Division, Office of Air Quality Planning and Standards, C539-01, U.S. Environmental Protection Agency, Research Triangle Park, NC 27709; telephone number: (919) 541-5208; fax number: (919) 541-5509; email address: stackhouse.butch@epa.gov.

SUPPLEMENTARY INFORMATION: Supporting documents, which explain in detail the information that the EPA will be collecting, are available in the public docket for this ICR. The docket can be viewed online at https://www.regulations.gov or in person at the EPA Docket Center Reading Room, WJC West, Room 3334, 1301 Constitution Avenue NW, Washington, DC 20229. The telephone number for the Docket Center is (202) 566-1744. For additional information about the EPA's public docket, visit https://www.epa.gov/dockets.

Abstract: The EPA requires the information requested in this ICR to perform its proper function to ensure the implementation of the 2008 ozone National Ambient Air Quality Standards (NAAQS) in areas of the country that are designated nonattainment for the standards. This ICR pertains to attainment planning efforts by states for areas designated nonattainment for the ozone NAAQS revised on March 12, 2008 (73 FR 16436). Those planning efforts must meet the statutory requirements of CAA sections 172, 182 and 184, and the regulatory requirements established in the “Implementation of the 2008 National Ambient Air Quality Standards for Ozone: State Implementation Plan (SIP) Requirements; Final Rule” (80 FR 12264). The EPA has since revised the ozone NAAQS on October 1, 2015 (80 FR 65292), and any burden associated with attainment planning for areas designated nonattainment for the 2015 ozone NAAQS will be covered through a separate ICR process. The information covered by this ICR includes, but is not limited to, state submissions of attainment demonstrations, reasonable further progress plans, and reasonably available control technology determinations.

Form Numbers: None.

Respondents/Affected Entities: State and local governments.

Respondent's Obligation To Respond: Mandatory (see Clean Air Act sections 172, 182 and 184).

Estimated Number of Respondents: 17 (total).

Frequency of Response: Annual.

Total Estimated Burden: 34,000 hours (per year). Burden is defined at 5 CFR 1320.3(b).

Total Estimated Cost: $2,311,000 (per year), includes $0 annualized capital or operation and maintenance costs.

Changes in Estimates: There is a decrease of 6,000 annual labor hours in the total estimated respondent burden compared with the ICR currently approved by OMB. This decrease is due to the activities expected to occur during the period from February 1, 2018, to January 31, 2021, which are similar in nature, but not identical, to the SIP planning and submission activities in the original ICR period. Factors contributing to the variation include the stage of implementation that various nonattainment areas are in for the 2008 ozone NAAQS, and states' relative success in attaining the 2008 ozone NAAQS during the original ICR period. More specifically, the reasons the total estimated burden in this ICR renewal is different than the total estimated burden hours currently approved by OMB, include:

• Many areas that have successfully attained the 2008 ozone NAAQS are now eligible to request redesignation to attainment.

• As many as 13 nonattainment areas are potentially subject to the additional air quality planning and emissions control requirements of the “Serious” classification because they may not attain the 2008 NAAQS by the Moderate area attainment deadline of July 20, 2018. For these areas, states will need to take further steps to ensure air quality standards are achieved by the next attainment deadline.

• The estimates have been calculated using 2017 dollars. The adjustments to the cost assumptions are summarized in sections 6(b) and 6(c) of the supporting statement, and fully detailed in a background spreadsheet titled, “Estimate of Burden for 2008 O3 SIP Rule 1st Renewal ICR Worksheet, 2017.” This spreadsheet is available in the docket.

Courtney Kerwin,
Director, Regulatory Support Division.

[FR Doc. 2018-00575 Filed 1-12-18; 8:45 am]

BILLING CODE 6560-50-P